OVERSEAS PRIVATE INVESTMENT CORPORATION

Sunshine Act Meeting

Time and Date: Tuesday, June 19, 2001, 1 PM (OPEN Portion) 1:30 PM (CLOSED Portion)

Place: Offices of the Corporation, Twelfth Floor Board Room, 1100 New York Avenue, NW., Washington, DC

Status: Meeting OPEN to the Public from 1 PM to 1:30 PM Closed portion will commence at 1:30 PM (approx.)

Matters to be Considered:

1. President's Report

2. Approval of December 12, 2000 Minutes (Open Portion)

Further Matters to be Considered: (Closed to the Public 1:30 PM)

1. Finance Project in Peru

2. Finance Project in Brazil

3. Finance Project in Argentina

4. Insurance Project in Nigeria

5. Approval of December 12, 2001 Minutes (Closed Portion)

6. Pending Major Projects

7. Reports

Contact Person for Information: Information on the meeting may be obtained from Connie M. Downs at (202) 336-8438.

Connie M. Downs,
OPIC Corporate Secretary.

[FR Doc. 01-14567 Filed 6-6-01; 10:21 am]

BILLING CODE 3210-01-M